DEPARTMENT OF TRANSPORTATION

Federal Aviation Administration

Notice of Meeting of the National Parks Overflights Advisory Group Aviation Rulemaking Committee

ACTION: Notice of meeting.

SUMMARY: The Federal Aviation Administration (FAA) and the National Park Service (NPS), in accordance with the National Parks Air Tour Management Act of 2000, announce the next meeting of the National Parks Overflights Advisory Group (NPOAG) Aviation Rulemaking Committee (ARC). This notification provides the dates, location, and agenda for the meeting.

Dates and Location: The NPOAG ARC will meet on November 4-5, 2009. The meeting will take place at the Dayton Aviation Heritage National Historic Park, Dayton, OH. The meeting will be held at the Wright-Dunbar Interpretive Center's conference room located at 16 South Williams Street, Dayton, OH 45402. The phone number is (937) 225-7705. The meetings will be held from 8:30 a.m. to 5 p.m. on November 4th and from 8:30 a.m. to 5 p.m. on November 5th. This NPOAG meeting will be open to the public.

FOR FURTHER INFORMATION CONTACT: Barry Brayer, AWP-1SP, Special Programs Staff, Federal Aviation Administration, Western-Pacific Region Headquarters, P.O. Box 92007, Los Angeles, CA 90009-2007, telephone: (310) 725-3800, e-mail: Barry.Brayer@faa.gov, or Karen Trevino, National Park Service, Natural Sounds Program, 1201 Oakridge Dr., Suite 100, Fort Collins, CO 80525, telephone: (970) 225-3563, e-mail: Karen_Trevino@nps.gov.

SUPPLEMENTARY INFORMATION:

Background

The National Parks Air Tour Management Act of 2000 (NPATMA), enacted on April 5, 2000, as Public Law 106-181, required the establishment of the NPOAG within one year after its enactment. The Act requires that the NPOAG be a balanced group of representatives of general aviation, commercial air tour operations, environmental concerns, and Native American tribes. The Administrator of the FAA and the Director of NPS (or their designees) serve as ex officio members of the group. Representatives of the Administrator and Director serve alternating 1-year terms as chairman of the advisory group.

The duties of the NPOAG include providing advice, information, and recommendations to the FAA Administrator and the NPS Director on: implementation of Public Law 106-181; quiet aircraft technology; other measures that might accommodate interests to visitors of national parks; and at the request of the Administrator and the Director, on safety, environmental, and other issues related to commercial air tour operations over national parks or tribal lands.

Agenda for the November 4-5, 2009 NPOAG Meeting

The agenda for the meeting will include, but is not limited to, final adoption of a Strategic Plan, update on ongoing Air Tour Management Program projects; and a discussion on the competitive bidding process.

Attendance at the Meetings

Although these are not public meetings, interested persons may attend. Because seating is limited, if you plan to attend please contact one of the persons listed under FOR FURTHER INFORMATION CONTACT so that meeting space may be made to accommodate all attendees.

Record of the Meetings

If you cannot attend the NPOAG meeting, a summary record of the meeting will be made available under the NPOAG section of the FAA ATMP Web site at: http://www.faa.gov/about/office_org/headquarters_offices/arc/programs/air_tour_management_plan/parks_overflights_group/minutes.cfm or through the Special Programs Staff, Western-Pacific Region, P.O. Box 92007, Los Angeles, CA 90009-2007, telephone: (310) 725-3808.

Issued in Hawthorne, CA, on October 5, 2009.
Keith Lusk,
Program Manager, Special Programs Staff, Western-Pacific Region.

[FR Doc. E9-24671 Filed 10-13-09; 8:45 am]

BILLING CODE M